DEPARTMENT OF THE INTERIOR

National Park Service

[NPS-WASO-NAGPRA-NPS0039812; PPWOCRADN0-PCU00RP14.R50000]

Notice of Intended Repatriation: National Museum of Wildlife Art of the United States, Jackson, WY

AGENCY: National Park Service, Interior.

ACTION: Notice.

SUMMARY: In accordance with the Native American Graves Protection and Repatriation Act (NAGPRA), the National Museum of Wildlife Art of the United States intends to repatriate certain cultural items that meet the definition of unassociated funerary objects, sacred objects, and/or objects of cultural patrimony and that have a cultural affiliation with the Indian Tribes or Native Hawaiian organizations in this notice.

DATES: Repatriation of the cultural items in this notice may occur on or after May 2, 2025.

ADDRESSES: Tammi Hanawalt, Curator of Art, National Museum of Wildlife Art, P.O. Box 6825, Jackson, WY 83002, telephone (307) 732-5451, email thanawalt@wildlifeart.org.

SUPPLEMENTARY INFORMATION: This notice is published as part of the National Park Service's administrative responsibilities under NAGPRA. The determinations in this notice are the sole responsibility of the National Museum of Wildlife of the United States, and additional information on the determinations in this notice, including the results of consultation, can be found in the summary or related records. The National Park Service is not responsible for the determinations in this notice.

Abstract of Information Available

A total of four cultural items have been requested for repatriation. One sacred object, a red catlinite buffalo effigy pipehead, and three objects of cultural patrimony, including a plains style beaded man's vest and two beaded effigy pipe bags, one with buffalo (1885) and the second with deer and elk (1885). The sacred object and those of cultural patrimony, listed herein, were purchased by the Museum's founder, which were in turn donated to the Museum. We have little provenance on these objects and question their origin.

The motifs on the pipe bags show to be parallel to Lakota bands; Mni Counjou, Two Kettle, and San Arc, based on other referenced pieces identified. Cultural affiliation of the cultural items to the Fort Peck Assiniboine & Sioux Tribes is identified clearly by understanding the “SIOUX” organizational structure and government placement. Fort Peck became the home to a variety of Siouan subdivision bands under the Lakota, Dakota and Nakoda peoples. Fort Peck Tribes are closely related and associated with (if not all) other Siouan Reservations throughout the North/South Dakotas, Minnesota, Nebraska, as well as Canadian reserves.

Determinations

The National Museum of Wildlife Art of the United States has determined that:

• The one sacred object described in this notice are specific ceremonial objects needed by a traditional Native American religious leader for present-day adherents to practice traditional Native American religion, according to the Native American traditional knowledge of a lineal descendant, Indian Tribe, or Native Hawaiian organization.

• The three objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Assiniboine and Sioux Tribes of the Fort Peck Indian Reservation, Montana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 2, 2025. If competing requests for repatriation are received, the National Museum of Wildlife Art of the United States must determine the most appropriate requestor prior to repatriation. Requests for joint repatriation of the cultural items are considered a single request and not competing requests. The National Museum of Wildlife Art of the United States is responsible for sending a copy of this notice to the Indian Tribes and Native Hawaiian organizations identified in this notice and to any other consulting parties.

Authority: Native American Graves Protection and Repatriation Act, 25 U.S.C. 3004 and the implementing regulations, 43 CFR 10.9.

Dated: March 21, 2025.
Melanie O'Brien,
Manager, National NAGPRA Program.

[FR Doc. 2025-05607 Filed 4-1-25; 8:45 am]

BILLING CODE 4312-52-P